DEPARTMENT OF LABOR

Office of the Secretary

29 CFR Part 18

RIN 1290-AA36

Rules of Practice and Procedure for Administrative Hearings Before the Office of Administrative Law Judges

AGENCY: Office of the Secretary.

ACTION: Proposed rule; reopening of comment period.

SUMMARY: The Department of Labor is reopening for 15 days the comment period on the January 11, 2021, notice of proposed rulemaking that would have provided for electronic filing (e-filing) and electronic service (e-service) of papers, required e-filing for persons represented by attorneys or non-attorney representatives unless good cause is shown justifying a different form of filing, and required advance notice to the parties of the manner of a hearing or prehearing conference.

DATES: The comment period for the proposed rule published on January 11, 2021, at 86 FR 1862, is reopened for 15 days and closes on April 1, 2021.

ADDRESSES: You may read background documents, submit comments, and read comments received through the Federal eRulemaking Portal at http://www.regulations.gov. To locate the rule, identified by Regulatory Identification Number (RIN) 1290-AA36, search for docket number DOL-2020-0015 or key words such as “Office of Administrative Law Judges” or “Rules of Practice and Procedure for Administrative Hearings Before the Office of Administrative Law Judges.”

Instructions for submitting comments are found on the www.regulations.gov website. Please be advised that comments received will be posted without change to http://www.regulations.gov, including any personal information provided. Therefore, the Department recommends that commenters safeguard their personal information by not including social security numbers, personal addresses, telephone numbers, and email addresses in comments. It is the responsibility of the commenters to safeguard their information. If you need assistance to review the comments or the rule, the Department will consider providing the comments and the rule in other formats upon request. For assistance to review the comments or obtain the rule in an alternate format, contact Mr. Todd Smyth, General Counsel, at (513) 684-3252.

FOR FURTHER INFORMATION CONTACT: Todd Smyth, General Counsel, U.S. Department of Labor, Office of Administrative Law Judges, 800 K Street NW, Washington, DC 20001-8002; telephone (513) 684-3252. Individuals with hearing or speech impairments may access the telephone number above by TTY by calling the toll-free Federal Information Relay Service at (800) 877-8339.

SUPPLEMENTARY INFORMATION: In the concurrent direct final rule (DFR) published at 86 FR 1800 on January 11, 2021, the Department stated that if a significant adverse comment was submitted by February 10, 2021, the Department would publish a timely withdrawal in the Federal Register informing the public that the DFR will not take effect. The Department also issued an identical Notice of Proposed Rulemaking (NPRM) on the same day (86 FR 1862). The Department received significant adverse comment prior to the close of the comment period and therefore withdrew the DFR, effective February 25, 2021. The Department also received a request to extend the comment period and is therefore reopening the comment period for 15 days. In issuing a final action, the Department will consider comments received on the DFR and NPRM during the initial comment period as well as comments received during this subsequent comment period. The Department will also provide at least 30 days' notice between promulgating a final rule that requires e-filing and the date on which e-filing will become mandatory under such a rule. Furthermore, the Department notes that several comments raised concerns with the Department's electronic filing system and not the requirements of the proposed or direct final rules. To better understand and address these concerns, the Department has scheduled listening sessions for users to provide feedback on the system. Information about those sessions is posted at https://efile.dol.gov.

Milton A. Stewart,
Acting Secretary of Labor.

[FR Doc. 2021-05409 Filed 3-16-21; 8:45 am]

BILLING CODE 4510-HW-P